DEPARTMENT OF THE INTERIOR

Bureau of Land Management

[(LLCA930000.L13400000.DS0000.212X) MO#4500151907]

Notice of Termination of Draft Desert Plan Amendment and Draft Environmental Impact Statement, California

AGENCY: Bureau of Land Management, Interior.

ACTION: Notice of termination.

SUMMARY: By this notice, the Bureau of Land Management (BLM) is announcing the termination of the land use planning process described in the Draft Land Use Plan Amendment (LUPA) and Draft Environmental Impact Statement (EIS) for an amendment to the California Desert Conservation Area (CDCA) Plan and the Bakersfield and Bishop Resource Management Plans (RMPs).

DATES: The land use planning process described in the Draft LUPA/Draft EIS is discontinued as of the date of publication of this Notice.

FOR FURTHER INFORMATION CONTACT: Jeremiah Karuzas, Renewable Energy Program Manager, telephone: 916-978-4644, email: jkaruzas@blm.gov; address Bureau of Land Management, 2800 Cottage Way, Sacramento, CA 95825. Persons who use a telecommunications device for the deaf (TDD) may call the Federal Relay Service (FRS) at 1-800-877-8339 to contact Mr. Karuzas during normal business hours. The FRS is available 24 hours a day, 7 days a week, to leave a message or question. You will receive a reply during normal business hours.

SUPPLEMENTARY INFORMATION: In accordance with the National Environmental Policy Act (NEPA) and its implementing regulations (40 CFR parts 1500-1508 and 43 CFR part 46), as well as 43 CFR 1610.7-2(b), the BLM published a Notice of Availability of a Draft LUPA/Draft EIS, as well as a concurrent public comment period on proposed management changes, and proposed boundary modifications or elimination of existing Areas of Critical Environmental Concern (ACEC), pursuant to 43 CFR 1610.7-2(b), on January 14, 2021 (86 FR 3181). The BLM is now discontinuing this planning and NEPA process in accordance with bureau policy, including its consideration of changes to ACECs, in order to evaluate consistency with Departmental and Executive priorities related to conservation and promotion of renewable energy development. While the BLM does not intend to issue a Proposed Plan/Final EIS or a Record of Decision for this planning process, it will continue to work with cooperating agencies and stakeholders in the implementation of the existing land use plans, which may result in future planning efforts. The BLM will inform the public of any future planning efforts related to the three land use plans.

(Authority: 40 CFR 1506.6, 40 CFR 1506.10, 43 CFR 1610.7-2)

Karen E. Mouritsen,
BLM California State Director.

[FR Doc. 2021-05136 Filed 3-11-21; 8:45 am]

BILLING CODE 4310-40-P